DEPARTMENT OF HEALTH AND HUMAN SERVICES

Substance Abuse and Mental Health Services Administration

Center for Substance Abuse Prevention; Notice of Meeting

Pursuant to Public Law 92-463, notice is hereby given that the Substance Abuse and Mental Health Services Administration's (SAMHSA) Center for Substance Abuse Prevention (CSAP) Drug Testing Advisory Board (DTAB) will meet on October 13, 2011 from 9 a.m. to 2:30 p.m. E.D.T. via teleconference.

The Board will discuss proposed revisions to the Mandatory Guidelines for Federal Workplace Drug Testing Programs. Therefore, this meeting is closed to the public as determined by the Administrator, SAMHSA, in accordance with 5 U.S.C. 552b(c)(9)(B) and 5 U.S.C. App. 2, Section 10(d).

Substantive program information, a summary of the meeting, and a roster of DTAB members may be obtained as soon as possible after the meeting by accessing the SAMHSA Advisory Committees' Web site, http://www.nac.samhsa.gov/DTAB/meetings.aspx, or by contacting Dr. Cook.

Committee Name: Substance Abuse and Mental Health Services Administration's, Center for Substance Abuse Prevention, Drug Testing Advisory Board.

Dates/Time/Type: October 13, 2011 from 9 a.m. to 2:30 p.m. E.D.T.: Closed.

Place: SAMHSA Office Building, 1 Choke Cherry Road, Rockville, Maryland 20857.

Contact: Janine Denis Cook, PhD, Designated Federal Official, CSAP Drug Testing Advisory Board, 1 Choke Cherry Road, Room 2-1045, Rockville, Maryland 20857, Telephone: 240-276-2600, Fax: 240-276-2610, E-mail: janine.cook@samhsa.hhs.gov.

Janine Denis Cook,
Designated Federal Official, DTAB, Division of Workplace Programs, Center for Substance Abuse Prevention, Substance Abuse and Mental Health Services Administration.

[FR Doc. 2011-24749 Filed 9-26-11; 8:45 am]

BILLING CODE 4162-20-P